DEPARTMENT OF THE TREASURY

Submission for OMB Review; Comment Request

February 22, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 30, 2006 to be assured of consideration.

Bureau of Public Debt

OMB Number: 1535-0013.

Type of Review: Extension.

Title: Claim for Lost, Stolen or Destroyed U.S. Savings Bonds and Supplemental Statement for U.S. Securities.

Form: BPD PD F 1048 and 2243.

Description: Used by owner or others having knowledge to request substitute securities or payment of lost, stolen or destroyed securities.

Respondents: Individuals or households.

Estimated Total Burden Hours: 26,400 hours.

OMB Number: 1535-0036.

Type of Review: Extension.

Title: Application by Voluntary Guardian of Incapacitated Owner of United States Savings Bonds/Notes.

Form: BPD PD F 2513.

Description: Used by voluntary guardian of incapacitated bond owner(s) to establish right of act on behalf of owner.

Respondents: Individuals or households.

Estimated Total Burden Hours: 26,600 hours.

OMB Number: 1535-0064.

Type of Review: Extension.

Title: Description of United States Savings Bonds Series HH/H and Description of United States Bonds/Notes.

Form: BPD PD F 1980 and 2490.

Description: Used by owner of United Savings Bonds/Notes to describe their holdings.

Respondents: Individuals or households.

Estimated Total Burden Hours: 2,400 hours.

OMB Number: 1535-0136.

Type of Review: Extension.

Title: Application for Refund of Purchase Price of United States Savings Bonds for Organizations.

Form: BPD PD F 5410.

Description: Used by an organization to request refund of purchase price of United States Savings Bonds.

Respondents: Business of other for-profit and Not-for-profit institutions.

Estimated Total Burden Hours: 300 hours.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building, Washington, DC 20503.

Michael A. Robinson,
Treasury PRA Clearance Officer.

[FR Doc. E6-2765 Filed 2-27-06; 8:45 am]

BILLING CODE 4810-39-P